DEPARTMENT OF COMMERCE

Foreign-Trade Zones Board

[Order No. 1675]

Reorganization/Expansion of Foreign-Trade Zone 21

Charleston, South Carolina, Area

Pursuant to its authority under the Foreign-Trade Zones Act of June 18, 1934, as amended (19 U.S.C. 81a-81u), the Foreign-Trade Zones Board (the Board) adopts the following Order:

WHEREAS, the South Carolina State Ports Authority, grantee of Foreign-Trade Zone 21, submitted an application to the Board for authority to reorganize and expand its zone to delete Sites 3 and 10 in their entirety, remove acreage from Sites 5 and 7, and add eight new sites (proposed Sites 16-23) in the Charleston, South Carolina, area within and adjacent to the Charleston Customs and Border Protection port of entry (FTZ Docket 15-2009, filed 4/8/09);

WHEREAS, notice inviting public comment was given in the Federal Register (74 FR 17452-17453, 4/15/09) and the application has been processed pursuant to the FTZ Act and the Board's regulations; and,

WHEREAS, the Board adopts the findings and recommendation of the examiner's report, and finds that the requirements of the FTZ Act and Board's regulations are satisfied, and that the proposal, with respect to Sites 3, 5, 7 and 10 and Sites 16, 17, 18, 21, 22 and 23, is in the public interest;

NOW, THEREFORE, the Board hereby orders:

The application to reorganize and expand FTZ 21 is approved in part (with respect to Sites 3, 5, 7 and 10 and Sites 16, 17, 18, 21, 22 and 23), subject to the FTZ Act and the Board's regulations, including Section 400.28, and to the Board's standard 2,000-acre activation limit for the overall general-purpose zone project, to sunset provisions that would terminate authority on April 30, 2013, for existing Sites 1-15 and 24 and on April 30, 2015, for Sites 16, 17, 18, 21 and 23 where no activity has occurred under FTZ procedures before those dates, and to a five-year time limit (to April 30, 2015) for Site 22 (subject to extension upon review).

Signed at Washington, DC, this 1st day of April 2010.

Ronald K. Lorentzen,
Deputy Assistant Secretaryfor Import Administration Alternate ChairmanForeign-Trade Zones Board.
ATTEST:
Andrew McGilvray,
Executive Secretary.

[FR Doc. 2010-10618 Filed 5-4-10; 8:45 am]

BILLING CODE 3510-DS-S